ENVIRONMENTAL PROTECTION AGENCY

[OPPT-2002-0075; FRL-7285-7]

Fifty-First Report of the TSCA Interagency Testing Committee to the Administrator; Receipt of Report and Request for Comments

AGENCY: Environmental Protection Agency (EPA).

ACTION: Notice.

SUMMARY: The Toxic Substances Control Act (TSCA) Interagency Testing Committee (ITC) transmitted its 51st ITC Report to the Administrator of the United States Environmental Protection Agency on November 26, 2002. In the 51st ITC Report, which is included in this notice, the ITC is adding 43 vanadium compounds to its Priority Testing List and removing 39 chemicals from the Priority Testing List.

The ITC is asking EPA to add 43 vanadium compounds to the TSCA section 8(a) Preliminary Assessment Information Reporting (PAIR) rule and rescinding its requests to add 2 chemicals to the TSCA section 8(a) PAIR rule and 36 chemicals to the TSCA section 8(d) Health and Safety Data Reporting rule.

The ITC continues to request voluntary information submissions directly from trade organizations, producers, and importers, while working to improve the utility of the Voluntary Information Submissions Innovative Online Network (VISION) and Voluntary Information Submissions Policy (VISP).

DATES: Comments, identified by docket ID number OPPT-2002-0075, must be received on or before March 28, 2003.

ADDRESSES: Comments may be submitted electronically, by mail, or through hand delivery/courier. Follow the detailed instructions as provided in Unit I. of the SUPPLEMENTARY INFORMATION.

FOR FURTHER INFORMATION CONTACT: For general information contact: Barbara Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: John D. Walker, ITC Executive Director (7401M), Environmental Protection Agency, 1200 Pennsylvania Ave., NW., Washington, DC 20460-0001; telephone number: (202) 564-7526; fax: (202) 564-7528; e-mail address: walker.johnd@epa.gov.

SUPPLEMENTARY INFORMATION:

I. General Information

A. Does this Action Apply to Me?

This notice is directed to the public in general. It may, however, be of particular interest to you if you manufacture (defined by statute to include import) and/or process TSCA-covered chemicals and you may be identified under the North American Industrial Classification System (NAICS) codes 325 (Chemical Manufacturing) and 32411(Petroleum Refineries). Because this notice is directed to the general public and other entities may also be interested, the Agency has not attempted to describe all the specific entities that may be interested in this action. If you have any questions regarding the applicability of this action to a particular entity, consult the technical person listed under FOR FURTHER INFORMATION CONTACT.

B. How Can I Get Copies of this Document and Other Related Information?

1. Docket. EPA has established an official public docket for this action under docket identification (ID) number OPPT-2002-0075. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPPT-2002-0075. The system is an “anonymous access” system, which means EPA will not know your identity, e-mail address, or other contact information unless you provide it in the body of your comment.

ii. E-mail. Comments may be sent by e-mail to oppt.ncic@epa.gov, Attention: Docket ID Number OPPT-2002-0075. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Building Rm. 6428, 1201 Constitution Ave., NW., Washington, DC. Attention: Docket ID Number OPPT-2002-0075. The DCO is open from 8 a.m. to 4 p.m., Monday through Friday, excluding legal holidays. The telephone number for the DCO is (202) 564-8930.

D. How Should I Submit CBI To the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Background

The Toxic Substances Control Act (TSCA) (15 U.S.C. 260l et seq.) authorizes the Administrator of the EPA to promulgate regulations under section 4(a) of TSCA requiring testing of chemicals and chemical mixtures in order to develop data relevant to determining the risks that such chemicals and chemical mixtures may present to health or the environment. Section 4(e) of TSCA established the ITC to recommend chemicals and chemical mixtures to the Administrator of the EPA for priority testing consideration. Section 4(e) of TSCA directs the ITC to revise the TSCA section 4(e) Priority Testing List at least every 6 months.

A. The 51th ITC Report

The 51th ITC Report was transmitted to the EPA's Administrator on November 26, 2002, and is included in this notice. In the 51st ITC Report, the ITC:

1. Adds 43 vanadium compounds to its Priority Testing List and removes thiophenol, 7 alkylphenols and alkylphenol ethoxylates, 3 Degradation Effects Bioconcentration Information Testing Strategies (DEBITS) chemicals, and 28 indium chemicals from the Priority Testing List.

2. Asks EPA to add 43 vanadium compounds to the TSCA section 8(a) PAIR rule and rescinds its request to add 3H-pyrazol-3-one, 5-((2-chloro-5-nitrophenyl)amino)-2,4-dihydro-2- (2,4,6-trichlorophenyl)- (CAS No. 30707-68-7) and phenol, 4,4'-[2,2,2-trifluoro-1-(trifluoromethyl)ethylidene]bis- (CAS No. 1478-61-1) to the TSCA section 8(a) PAIR rule.

3. Rescinds its request to EPA to add 8 nonylphenol polyethoxylate degradation products and 28 indium compounds to the TSCA section 8(d) Health and Safety Data Reporting rule.

4. Continues to request voluntary information submissions directly from trade organizations, producers, and importers, while working to improve the utility of VISION and VISP.

B. Status of the Priority Testing List

The current TSCA 4(e) Priority Testing List as of November 2002 can be found in Table 1 of the 51st ITC Report, which is included in this notice.

List of Subjects

Environmental protection, Chemicals, Hazardous substances.

Dated: February 19, 2003.
Wardner G. Penberthy,
Acting Director, Chemical Control Division, Office of Pollution Prevention and Toxics.

Fifty-First Report of the TSCA Interagency Testing Committee to the Administrator, U.S. Environmental Protection Agency

Table of Contents

Summary

The TSCA Section 4(e) Priority Testing List (November 2002)

I. Background

II. TSCA Section 8 Reporting

A. TSCA Section 8 Reporting Rules

B. ITC's Use of TSCA Section 8 and Other Information

C. Previous and New Requests to Add Chemicals to TSCA Section 8(a) PAIR Rule

D. Rescinding Requests to Add Chemicals to TSCA Section 8(a) PAIR Rules

E. Previous Requests to Add Chemicals to TSCA Section 8(d) HaSDR Rules

F. Rescinding Requests to Add Chemicals to TSCA Section 8(d) HaSDR Rules

III. ITC's Activities During this Reporting Period (May to November 2002)

A. Voluntary Information Submissions

B. DEBITS

IV. Revisions to the TSCA Section 4(e) Priority Testing List

A. Chemicals Added to the Priority Testing List: Vanadium Compounds

B. Chemicals Removed From the Priority Testing List

1. Thiophenol.

2. Seven alkylphenols and alkylphenol ethoxylates.

3. DEBITS 1 chemical.

4. Indium compounds.

V. References

VI. TSCA Interagency Testing Committee

Summary

In this 51st Report, the ITC is adding 43 vanadium compounds to the Priority Testing List. The ITC is removing thiophenol, 7 alkylphenols and alkylphenol ethoxylates, 3 Degradation Effects Bioconcentration Information Testing Strategies (DEBITS) chemicals, and 28 indium chemicals from the Priority Testing List.

The ITC is asking the United States Environmental Protection Agency (USEPA) to add 43 vanadium compounds to the Toxic Substances Control Act (TSCA) section 8(a) Preliminary Assessment Information Reporting (PAIR) rule and rescinding its request to add 3H-pyrazol-3-one, 5-((2-chloro-5-nitrophenyl)amino)-2,4-dihydro-2- (2,4,6-trichlorophenyl)- (CAS No. 30707-68-7) and phenol, 4,4'-[2,2,2-trifluoro-1-(trifluoromethyl)ethylidene]bis- (CAS No. 1478-61-1) to the TSCA section 8(a) PAIR rule. The ITC is rescinding its request to USEPA to add 8 nonylphenol polyethoxylate degradation products, and 28 indium compounds to the TSCA section 8(d) Health and Safety Data Reporting (HaSDR) rule.

The ITC will continue to request voluntary information submissions directly from trade organizations, producers, and importers, while working to improve the utility of the Voluntary Information Submissions Innovative Online Network (VISION) and Voluntary Information Submissions Policy (VISP).

The revised TSCA section 4(e) Priority Testing List follows as Table 1.

Table 1.—The TSCA Section 4(e) Priority Testing List (November 2002)
ITC Report | Date | Chemical name/Group | Action
31 | January 1993 | 13 Chemicals with insufficient dermal absorption rate data | Designated
32 | May 1993 | 16 Chemicals with insufficient dermal absorption rate data | Designated
35 | November 1994 | 4 Chemicals with insufficient dermal absorption rate data | Designated
37 | November 1995 | 2 Alkylphenols | Recommended
41 | November 1997 | 1 Alkylphenol | Recommended
42 | May 1998 | 3-Amino-5-mercapto-1,2,4-triazole | Recommended
42 | May 1998 | Glycoluril | Recommended
47 | November 2000 | 9 Indium compounds | Recommended
48 | May 2001 | Benzenamine, 3-chloro-2,6-dinitro-N,N-dipropyl-4-(trifluoromethyl)- | Recommended
49 | November 2001 | Stannane, dimethylbis[(1-oxoneodecyl)oxy]- | Recommended
50 | May 2002 | Benzene, 1,3,5-tribromo-2-(2-propenyloxy)- | Recommended
50 | May 2002 | 1-Triazene, 1,3-diphenyl- | Recommended
51 | November 2002 | 43 Vanadium compounds | Recommended

I. Background

The ITC was established by section 4(e) of TSCA “to make recommendations to the Administrator respecting the chemical substances and mixtures to which the Administrator should give priority consideration for the promulgation of a rule for testing under section 4(a).... At least every six months ..., the Committee shall make such revisions to the Priority Testing List as it determines to be necessary and transmit them to the Administrator together with the Committee's reasons for the revisions” (Public Law 94-469, 90 Stat. 2003 et seq., 15 U.S.C. 2601 et seq.). Since its creation in 1976, the ITC has submitted 50 semi-annual (May and November) Reports to the USEPA Administrator transmitting the Priority Testing List and its revisions. ITC Reports are available from the ITC's web site (http://www.epa.gov/opptintr/itc) within a few days of submission to the Administrator and from http://www.epa.gov/fedrgstr after publication in the Federal Register. The ITC meets monthly and produces its revisions to the Priority Testing List with administrative and technical support from the ITC Staff and ITC Members and their U.S. Government organizations and contract support provided by USEPA. ITC Members and Staff are listed at the end of this report.

II. TSCA Section 8 Reporting

A. TSCA Section 8 Reporting Rules

Following receipt of the ITC's Report (and the revised Priority Testing List) by the USEPA Administrator, the USEPA's Office of Pollution Prevention and Toxics (OPPT) appends the chemicals added to the Priority Testing List to TSCA section 8(a) PAIR and TSCA section 8(d) HaSDR rules. The PAIR rule requires producers and importers of Chemical Abstract Service (CAS)-numbered chemicals added to the Priority Testing List to submit production and exposure reports (http://www.epa.gov/opptintr/chemtest/pairform.pdf). The HaSDR rule requires producers, importers, and processors of all chemicals (including those with no CAS numbers) added to the Priority Testing List to submit unpublished health and safety studies under TSCA section 8(d) that must be in compliance with the revised HaSDR rule (Ref. 1). All submissions must be received by USEPA within 90 days of the reporting rules Federal Register publication date. The reporting rules are automatically promulgated by OPPT unless otherwise requested by the ITC.

B. ITC's Use of TSCA Section 8 and Other Information

The ITC reviews the TSCA section 8(a) PAIR rule reports, TSCA section 8(d) HaSDR rule studies, and other information that becomes available after the ITC adds chemicals to the Priority Testing List. Other information includes TSCA section 4(a) and 4(d) studies, TSCA section 8(c) submissions, TSCA section 8(e) “substantial risk” notices, “For Your Information” (FYI) submissions, unpublished data submitted to and from U.S. Government organizations represented on the ITC, published papers, as well as use, exposure, effects, and persistence data that are voluntarily submitted to the ITC by manufacturers, importers, processors, and users of chemicals recommended by the ITC. The ITC reviews this information and determines if data needs should be revised, if chemicals should be removed from the Priority Testing List or if recommendations should be changed to designations. To avoid duplicate reporting, the ITC carefully coordinates its information solicitations and reporting requirements with other national and international testing programs, e.g., the National Toxicology Program (NTP) (http://ntp-server.niehs.nih.gov/), the Organization for Economic Cooperation and Development (OECD) Screening Information Data Set (SIDS) Program (http://www.oecd.org), and the USEPA's High Production Volume (HPV) Challenge Program (http://www.epa.gov/opptintr/chemrtk/volchall.htm).

C. Previous and New Requests to Add Chemicals to TSCA Section 8(a) PAIR Rules

The ITC has requested in previous reports that USEPA add the following chemicals to the TSCA section 8(a) PAIR rules: Benzenamine, 3-chloro-2,6-dinitro-N,N-dipropyl-4- (trifluoromethyl)- (CAS No. 29091-20-1) (48th Report, Ref. 2); stannane, dimethylbis[(1-oxoneodecyl)oxy]- (CAS No. 68928-76-7) (49th Report, Ref. 3); and benzene, 1,3,5-tribromo-2-(2-propenyloxy)- (CAS No. 3278-89-5) and 1-triazene, 1,3-diphenyl- (CAS No.136-35-6) (50th Report, Ref. 4).

The ITC requests that USEPA add the 43 vanadium compounds described in this 51st Report to the TSCA section 8(a) PAIR rule.

D. Rescinding Requests to Add Chemicals to TSCA Section 8(a) PAIR Rules

The ITC is rescinding its 48th Report (Ref. 2) request to add 3H-pyrazol-3-one, 5-[(2-chloro-5-nitrophenyl)amino]-2,4- dihydro-2- (2,4,6-trichlorophenyl)- (CAS No. 30707-68-7) to the TSCA section 8(a) PAIR rule because of decreasing production volume trends from 1990 to the present. The ITC is also rescinding its 48th Report (Ref. 2) request to add phenol, 4,4'-[2,2,2-trifluoro-1-(trifluoromethyl)ethylidene]bis- (CAS No. 1478-61-1) to the TSCA section 8(a) PAIR rule because the ITC has learned that the predicted bioconcentration factor (BCF) of 500 is below the BCF threshold currently considered for action by USEPA under its Persistent, Bioaccumulative and Toxic (PBT) Chemical Program (http://www.epa.gov/opptintr/pbt).

E. Previous Requests to Add Chemicals to TSCA Section 8(d) HaSDR Rules

The ITC has requested in previous reports to the USEPA Adminstrator that the following chemicals be added to TSCA section 8(d) HaSDR rules: 3H-1,2,4-triazole-3-thione, 5-amino-1,2-dihydro- (3-amino-5-mercapto-1,2,4-triazole) (CAS No. 16691-43-3) and imidazo[4,5-d]imidazole-2,5(1H,3H)-dione, tetrahydro- (glycoluril) (CAS No. 496-46-8) (42nd Report, Ref. 5); 9 indium compounds (47th Report, Ref. 6); benzenamine, 3-chloro-2,6-dinitro-N,N-dipropyl-4- (trifluoromethyl)- (CAS No. 29091-20-1) (48th Report, Ref. 2); stannane, dimethylbis[(1-oxoneodecyl)oxy]- (CAS No. 68928-76-7) (49th Report, Ref. 3); and benzene, 1,3,5-tribromo-2-(2-propenyloxy)- (CAS No. 3278-89-5) and 1-triazene, 1,3-diphenyl- (CAS No.136-35-6) (50th Report, Ref. 4). At this time, the ITC is requesting that USEPA not add vanadium compounds to the TSCA section 8(d) HaSDR rule to allow producers and importers of vanadium compounds an opportunity to voluntarily provide the information requested in section IV.A.3. of this report.

For 3H-1,2,4-triazole-3-thione, 5-amino-1,2-dihydro- (3-amino-5-mercapto-1,2,4-triazole) and imidazo[4,5-d]imidazole-2,5-(1H,3H)-dione, tetrahydro- (glycoluril), the ITC requests that the TSCA section 8(d) HaSDR rule require the submission of pharmacokinetics, subchronic toxicity, immunotoxicity, genotoxicity, carcinogenicity, reproductive effects and developmental toxicity, and ecological effects studies. Only studies for which 3-amino-5-mercapto-1,2,4-triazole or glycoluril is ≥ 90% of the test substance by weight should be submitted.

For the 9 indium compounds remaining on the Priority Testing List, the ITC requests that the TSCA section 8(d) HaSDR rule require the submission of pharmacokinetics, genotoxicity, subchronic and chronic toxicity, and reproductive effects and developmental toxicity studies. Only studies where indium compounds are ≥ 90% of the test substance by weight should be submitted.

For benzenamine, 3-chloro-2,6-dinitro-N,N-dipropyl-4- (trifluoromethyl)-, the ITC requests that the TSCA section 8(d) HaSDR rule require the submission of biodegradation, bioconcentration, pharmacokinetics, subchronic toxicity, mutagenicity, reproductive effects and developmental toxicity, carcinogenicity, and ecological effects studies. Only studies where benzenamine, 3-chloro-2,6-dinitro-N,N-dipropyl-4- (trifluoromethyl)- is ≥ 90% of the test substance by weight should be submitted.

For stannane, dimethylbis[(1-oxoneodecyl)oxy]-, the ITC requests that the TSCA section 8(d) HaSDR rule require the submission of hydrolysis, biodegradation, bioconcentration, pharmacokinetics, subchronic toxicity, mutagenicity, neurotoxicity, reproductive effects and developmental toxicity, carcinogenicity, and ecological effects studies. Only studies where stannane, dimethylbis[(1-oxoneodecyl)oxy]- is ≥ 90% of the test substance by weight should be submitted.

For benzene, 1,3,5-tribromo-2-(2-propenyloxy)-, the ITC requests that the TSCA section 8(d) HaSDR rule require the submission of biodegradation, bioconcentration, pharmacokinetics, subchronic toxicity, neurotoxicity, reproductive effects and developmental toxicity, carcinogenicity, and ecological effects studies. Only studies where benzene, 1,3,5-tribromo-2-(2-propenyloxy)- is ≥ 90% of the test substance by weight should be submitted.

For 1-triazene, 1,3-diphenyl-, the ITC requests that the TSCA section 8(d) HaSDR rule require the submission of pharmacokinetics, genotoxicity, subchronic and chronic toxicity, reproductive effects and developmental toxicity studies. Only studies where 1-triazene, 1,3-diphenyl- is ≥ 90% of the test substance by weight should be submitted.

F. Rescinding Requests to Add Chemicals to TSCA Section 8(d) HaSDR Rules

The ITC is rescinding its request to USEPA to add 8 nonylphenol polyethoxylate degradation products and 28 indium compounds to the TSCA section 8(d) HaSDR rule. The request to add 8 nonylphenol polyethoxylate degradation products to the TSCA section 8(d) HaSDR rule is being rescinded because the ITC learned that they are not commercially produced (Table 2 of this unit). Data on the 8 nonylphenol polyethoxylate degradation products were summarized in the 46th Report (Ref. 7). The ITC is rescinding its request to add 28 indium compounds to the TSCA section 8(d) HaSDR rule because no PAIR reports were submitted for these chemicals in response to the July 26, 2001, PAIR rule (1,000 pound reporting threshold) (Ref. 8). Data on the indium compounds were summarized in the 47th Report (Ref. 6).

Table 2.—Nonylphenol Polyethoxylate (NPE) Degradation Products Being Removed From the Priority Testing List
CAS No. | Nonylphenol polyethoxylate degradation product
104-35-8 | 4-nonylphenol ethoxylate (NP1EO)
20427-84-3 | 4-nonylphenol diethoxylate (NP2EO)
51437-95-7 | 4-nonylphenol triethoxylate (NP3EO)
7311-27-5 | 4-nonylphenol tetraethoxylate (NP4EO)
3115-49-9 | 4-nonylphenoxy acetic acid (NP1EC)
106807-78-7 | 4-nonylphenoxy ethoxy acetic acid (NP2EC)
108149-59-3 | 4-nonylphenoxy diethoxy acetic acid (NP3EC)
184007-22-5 | 4-nonylphenoxy triethoxy acetic acid (NP4EC)

III. ITC's Activities During this Reporting Period (May to November 2002)

A. Voluntary Information Submissions

To promote more efficient use of information submission resources, the ITC developed the VISP and the VISION. The VISP is described in the ITC's 41st Report (Ref. 9), while the VISION is described in the ITC's 42nd Report (Ref. 5). The ITC developed the VISP and VISION as tools to provide a more cost-effective method for chemical producers, importers, processors, and users of ITC-recommended chemicals to provide voluntary information. Except for a few industries, the ITC received voluntary information submissions through the VISION on < 15% of the chemicals for which voluntary information was solicited. The ITC has not yet determined the reasons for the apparent low utilization of the VISION. In its 50th Report (Ref. 4), the ITC requested comments on procedures that could be implemented to make the VISION or other procedures for submitting voluntary information more effective.

The American Chemistry Council (ACC) provided an explanation of the chemical industry's limited participation in the VISION (Ref. 10). The ACC expressed concerns about the need to protect Confidential Business Information (CBI), the problems associated with soliciting voluntary submissions on non-HPV chemicals, the potential non-existence of specific data being requested by the ITC, and the resources required to submit studies in portable document format (PDF).

To supplement the efforts to obtain studies in PDF through the VISION, the ITC Staff has been contacting the producers and importers of ITC-recommended chemicals to obtain voluntary information submissions. These efforts were highly successful for the chemicals identified through DEBITS. The ITC Staff will continue to contact the producers and importers of ITC-recommended chemicals to obtain voluntary information submissions as it continues its efforts to improve the utility of the VISP and VISION.

During this reporting period, the ITC acknowledges the voluntary information submissions from the following organizations: 3M Corporation; Albemarle Corporation; Amfine Chemical Corporation; Alkylphenol & Ethoxylates Research Council; Akzo Nobel Chemicals, Inc.; BASF Corporation; Bayer Corporation; Biddle Sawyer Corporation; Canon USA, Inc.; Ciba Specialty Chemicals Corporation; Cognis Corporation; Crompton Corporation; E.I. duPont de Nemours and Company; Eastman Chemical Company; ExxonMobil Corporation; Great Lakes Chemical Company; Hercules, Inc.; Lonza, Inc.; Lubrizol Corporation; Magruder Color Company; Noveon, Inc.; Schenectady International, Inc.; Society of Plastics Industry; and Strucktol Company.

Following the transmittal of this 51st Report to the USEPA Administrator, the ITC Staff will contact the producers and importers of the 9 indium compounds remaining on the Priority Testing List to obtain the following information to adequately access the extent and degree of exposure and potential hazard associated with indium compounds:

1. Recent non-CBI estimates of annual production or importation volume trends.

2. Use information, including percentages of production or importation that are associated with different uses.

3. Estimates of the number of workers and concentrations of indium compounds to which workers may be exposed during manufacture or processing including smelting processes, leaching processes, recovery of scrap material, deposition of film coatings, soldering, and production of electrical components including, but not limited to semiconductors.

B. DEBITS

In its 45th through 50th Reports (Refs. 2-4, 6, 7, and 11), the ITC described its strategies to screen and evaluate chemicals with persistence and bioconcentration potential. These activities are referred to as DEBITS. DEBITS provides a means to prioritize chemicals for information reporting and testing based on degradation and bioconcentration potential and availability of effects data. For DEBITS 1, the ITC used criteria to screen 12,685 chemicals and ultimately review 458, the disposition of which was described in the 45th through 50th Reports (Refs. 2-4, 6, 7, and 11). As a result of implementing DEBITS 1, the Priority Testing List contains three chemicals with persistence and bioconcentration potential that the USEPA may consider for its PBT Program: Benzenamine, 3-chloro-2,6-dinitro-N,N-dipropyl-4- (trifluoromethyl)-; stannane, dimethylbis[(1-oxoneodecyl)oxy]-; and benzene, 1,3,5-tribromo-2-(2-propenyloxy)-.

DEBITS 2 started with 8,511 chemicals with production volumes > 10,000 lbs reported to USEPA in response to the 1998 Inventory Update Rule (IUR). From these 8,511 chemicals, 30 non-HPV chemicals were identified that had 1998 production volumes > 50,000 lbs, predicted biodegradation half-lives > 2 months and predicted bioconcentration factors > 1,000. The ITC contacted manufacturers and importers of these 30 DEBITS 2 chemicals to solicit voluntary information on production and uses, and unpublished toxicity data. The ITC received production and use information for 22 DEBITS 2 chemicals and unpublished toxicity studies for 13 DEBITS 2 chemicals. After reviewing this and other available information the ITC deferred the 30 DEBITS 2 chemicals for information reporting rules. A brief rationale for deferring each DEBITS 2 chemical is given in Table 3 of this unit.

Table 3.—Rationales for Deferring 30 DEBITS 2 Chemicals
CAS No. | Chemical name | Rationale
118-74-1 | Benzene, hexachloro- | Not domestically produced or imported
128-69-8 | Perylo[3,4-cd:9,10-c'd']dipyran-1,3,8,10-tetrone | Potential low bioavailability
133-14-2 | Peroxide, bis(2,4-dichlorobenzoyl) | Low exposure potential from use
423-50-7 | 1-Hexanesulfonyl fluoride, 1,1,2,2,3,3,4,4,5,5,6,6,6-tridecafluoro- | Perfluorinated chemical referred to USEPA
509-34-2 | Spiro[isobenzofuran-1(3H),9'-[9H]xanthen]-3-one, 3',6'-bis(diethylamino)- | Not domestically produced or imported
678-39-7 | 1-Decanol, 3,3,4,4,5,5,6,6,7,7,8,8,9,9,10,10,10-heptadecafluoro- | Perfluorinated chemical referred to USEPA
3006-86-8 | Peroxide, cyclohexylidenebis[(1,1-dimethylethyl) | Low exposure potential from use
3864-99-1 | Phenol, 2-(5-chloro-2H-benzotriazol-2-yl)-4,6-bis(1,1-dimethylethyl)- | Adequate toxicity studies available
4051-63-2 | [1,1'-Bianthracene]-9,9',10,10'-tetrone, 4,4'-diamino- | Potential low bioavailability
4162-45-2 | Ethanol, 2,2'-[(1-methylethylidene)bis[(2,6-dibromo-4,1- phenylene)oxy]]bis- | Not domestically produced or imported
13417-01-1 | 1-Octanesulfonamide, N-[3-(dimethylamino)propyl]-1,1,2,2,3,3,4,4,5,5,6,6,7,7,8,8,8-heptadecafluoro- | Perfluorinated chemical referred to USEPA
15667-10-4 | Peroxide, cyclohexylidenebis[(1,1-dimethylpropyl) | Low exposure potential from use
16090-14-5 | Ethanesulfonyl fluoride, 2-[1-[difluoro[(trifluoroethenyl)oxy]methyl]-1,2,2,2-tetrafluoroethoxy]-1,1,2,2-tetrafluoro- | Perfluorinated chemical referred to USEPA
25637-99-4 | Cyclododecane, hexabromo- (HBCD) | Included in OECD Risk Assessment of brominated flame retardants and specific isomer of HBCD previously designated in ITC's 25th Report (Ref. 12)
29512-49-0 | Spiro[isobenzofuran-1(3H),9'-[9H]xanthen]-3-one, 6'-(diethylamino)-3'-methyl-2'-(phenylamino)- | Not domestically produced or imported
31148-95-5 | 1-Phenanthrenecarbonitrile, 1,2,3,4,4a,9,10,10a-octahydro-1,4a-dimethyl-7-(1-methylethyl)-, (1R,4aS,10aR)- | Low exposure potential from use
40567-16-6 | Butanoyl chloride, 2-[2,4-bis(1,1-dimethylpropyl)phenoxy]- | Low exposure potential from use
41556-26-7 | Decanedioic acid, bis(1,2,2,6,6-pentamethyl-4-piperidinyl) ester | Low measured BCF
50598-28-2 | 1-Hexanesulfonamide, N-[3-(dimethylamino)propyl]-1,1,2,2,3,3,4,4,5,5,6,6,6-tridecafluoro- | Perfluorinated chemical referred to USEPA
51461-11-1 | Butanamide, N-(3-amino-4-chlorophenyl)-4-[2,4-bis(1,1-dimethylpropyl)phenoxy]- | Not domestically produced or imported
51772-35-1 | 1-Naphthalenamine, N-[(1,1,3,3-tetramethylbutyl)phenyl]- | Low exposure potential from use
58798-47-3 | 3H-Indolium, 2-[[(4-methoxyphenyl)methylhydrazono]methyl]-1,3,3-trimethyl-, acetate | Not domestically produced or imported
64022-61-3 | 1,2,3,4-Butanetetracarboxylic acid, tetrakis(2,2,6,6-tetramethyl-4-piperidinyl) ester | Low exposure potential from use
67584-57-0 | 2-Propenoic acid, 2-[methyl[(tridecafluorohexyl)sulfonyl]amino]ethyl ester | Perfluorinated chemical referred to USEPA
68259-36-9 | 1-Naphthalenamine, N-phenyl-ar-(1,1,3,3-tetramethylbutyl)- | Low measured BCF
68555-73-7 | 1-Heptanesulfonamide, N-ethyl-1,1,2,2,3,3,4,4,5,5,6,6,7,7,7-pentadecafluoro-N-(2-hydroxyethyl)- | Perfluorinated chemical referred to USEPA
68555-76-0 | 1-Heptanesulfonamide, 1,1,2,2,3,3,4,4,5,5,6,6,7,7,7-pentadecafluoro-N-(2-hydroxyethyl)-N-methyl- | Perfluorinated chemical referred to USEPA
72869-85-3 | Chromate(1-), bis[3,5-bis(1,1-dimethylethyl)-2-(hydroxy-.kappa.O)benzoato(2-)-.kappa.O]-, hydrogen, (T-4)- | Low exposure potential from use
75627-12-2 | Xanthylium, 3,6-bis(ethylamino)-9-[2-(methoxycarbonyl)phenyl]-2,7-dimethyl-, molybdatesilicate | Potential low bioavailability
106246-33-7 | Benzenamine, 4,4'-methylenebis[3-chloro-2,6-diethyl- | Low exposure potential from use

IV. Revisions to the TSCA Section 4(e) Priority Testing List

A. Chemicals Added to the Priority Testing List: Vanadium Compounds

1. Recommendation. Forty-three vanadium compounds are being added to the Priority Testing List to obtain importation, production, use, exposure, and health effects information to meet U.S. Government data needs (Table 4 of this unit). These compounds were identified by searching reference sources and chemical databases maintained by agencies in the United States and Canada. The ITC believes the list of vanadium compounds in Table 4 of this unit includes those most likely to be in current use. Toxicological effects of vanadium compounds were recently summarized by the International Program on Chemical Safety under the auspices of the World Health Organization (WHO) (Ref. 13).

Table 4.—Vanadium Compounds Being Added to the Priority Testing List
CAS No. | Vanadium compounds
1314-34-7 | Vanadium oxide (V2O3) [Vanadium trioxide]
1314-62-1 | Vanadium oxide (V2O5) [Vanadium pentoxide]
1686-22-2 | Vanadium, triethoxyoxo-, (T-4)- [Triethyl orthovanadate]
3153-26-2 | Vanadium, oxobis (2,4-pentanedionato-.kappa.O,.kappa.O')-, (SP-5-21)-
5588-84-1 | Vanadium, oxotris(2-propanolato)-, (T-4)- [Vanadium triisopropoxide oxide]
7440-62-2 | Vanadium
7632-51-1 | Vanadium chloride (VCl4), (T-4)- [Vanadium tetrachloride]
7718-98-1 | Vanadium chloride (VCl3) [Vanadium trichloride]
7727-18-6 | Vanadium, trichlorooxo-, (T-4)- [Vanadium oxytrichloride]
7803-55-6 | Vanadate (VO31-), ammonium [Ammonium metavanadate]
10049-16-8 | Vanadium fluoride (VF4) [Vanadium tetrafluoride]
10213-09-9 | Vanadium, dichlorooxo- [Vanadyl dichloride]
10580-52-6 | Vanadium chloride (VCl2) [Vanadium dichloride]
11099-11-9 | Vanadium oxide [Polyvanadic acid]
11115-67-6 | Ammonium vanadium oxide
11130-21-5 | Vanadium carbide
12007-37-3 | Vanadium boride (VB2)
12035-98-2 | Vanadium oxide (VO)
12036-21-4 | Vanadium oxide (VO2)
12070-10-9 | Vanadium carbide (VC)
12083-48-6 | Vanadium, dichlorobis (.eta.5-2,4-cyclopentadien-1-yl)-
12166-27-7 | Vanadium sulfide (VS)
12439-96-2 | Vanadium, oxo[sulfato(2-)-kappa.O]-, pentahydrate [Vanadyl sulfate (VOSO4), pentahydrate]
12604-58-9 | Vanadium alloy, base, V,C,Fe (Ferrovanadium)
13470-26-3 | Vanadium bromide (VBr3)
13476-99-8 | Vanadium, tris(2,4-pentanedionato-.kappa.O,.kappa.O')-, (OC-6-11)- [Vanadium tris(acetylacetonate)]
13497-94-4 | Silver vanadium oxide (AgVO3)
13517-26-5 | Sodium vanadium oxide (Na4V2O7) [Sodium pyrovanadate]
13718-26-8 | Vanadate (VO31-), sodium [Sodium metavanadate]
13721-39-6 | Sodium vanadium oxide (Na3VO4) [Sodium orthovanadate]
13769-43-2 | Vanadate (VO31-), potassium [Potassium metavanadate]
13930-88-6 | Vanadium, oxo[29H,31H-phthalocyaninato(2-)-.kappa.N29,.kappa.N30,.kappa.N31,.kappa.N32]-, (SP-5-12)-
14059-33-7 | Bismuth vanadium oxide (BiVO4)
19120-62-8 | Vanadium, tris(2-methyl-1-propanolato)oxo-, (T-4)- [Isobutyl orthovanadate]
24646-85-3 | Vanadium nitride (VN)
27774-13-6 | Vanadium, oxo[sulfato(2-)-.kappa.O]- [Vanadyl sulfate]
30486-37-4 | Vanadium hydroxide oxide (V(OH)2O)
39455-80-6 | Ammonium sodium vanadium oxide
53801-77-7 | Bismuth vanadium oxide
65232-89-5 | Vanadium hydroxide oxide phosphate
68130-18-7 | Vanadium hydroxide oxide phosphate (V6(OH)3O3(PO4)7)
68815-09-8 | Naphthenic acids, vanadium salts
68990-29-4 | Balsams, copaiba, sulfurized, vanadium salts

2. Rationale for recommendation. Long-term inhalation exposure to vanadium pentoxide increased the incidence of lung tumors in male and female mice. As a result, vanadium pentoxide and other vanadium compounds may be potentially carcinogenic to humans. Existing occupational exposure limits for vanadium dusts were primarily developed to protect workers from irritation and acute pulmonary effects and may not be sufficiently protective against an increased risk of lung cancer.

3. Information needs. The ITC needs:

i. Recent non-CBI estimates of annual production or importation volume data and trends, and use information, including percentages of production or importation that are associated with different uses.

ii. Estimates of the number of humans and concentrations of vanadium chemicals to which humans may be exposed in each relevant manufacturing or processing scenario.

iii. Health effects data including pharmacokinetics, genotoxicity, subchronic toxicity, reproductive and developmental toxicity, and any human data from occupationally exposed workers.

The ITC seeks this information in order to adequately assess the extent and degree of exposure and potential hazard associated with the various forms of vanadium.

4. Supporting information. Vanadium is widely distributed in low amounts as a constituent of mineral ores and crude petroleum deposits. The U.S. consumption of vanadium compounds was reported to be 3,210 metric tons in 2001 (Ref. 14). The majority of vanadium was utilized as an alloying agent in the steel industry or in the production of ferrovanadium and other metal alloys. A smaller portion of vanadium was used as industrial catalysts and in the production of pesticides, dyes, inks, and pigments. More recent applications of vanadium compounds are thought to include manufacture of semiconductors, vanadate glasses, and electro-optical switches. There were over 5,000 potentially exposed workers reported in the National Occupational Exposure Survey conducted between 1980 and 1983. Vanadium exposure has been found in over 300 personal air samples reported in OSHA's Integrated Management Information System since 1995. Worker exposures are known to occur during manufacture and handling of vanadium containing materials, such as welding operations or during cleaning of oil-fired furnaces and boilers. General population exposure to vanadium most likely occurs through ingestion of food-bearing soil residue and inhaled air in areas with high levels of residual fuel oil consumption (Ref. 15).

For vanadium pentoxide and most vanadium dusts and fumes, NIOSH's Recommended Exposure Limit (REL) is a ceiling value of 0.05 milligram/meter cubed (mg/m³). The American Council of Government Industrial Hygienists (ACGIH) threshold limit value (TLV) for vanadium pentoxide is 0.05 mg/m³ as an 8-hour time weighted average. OSHA's Permissible Exposure Limit (PEL) is a 0.1 mg/m³ ceiling for vanadium pentoxide fumes and a 0.5 mg/m³ ceiling for respirable dust. These occupational exposure limits were developed to protect against respiratory tract irritation and acute pulmonary effects and may not be adequate against an increased risk of lung cancer.

In a 2-year inhalation study, NTP found clear evidence of carcinogenic activity of vanadium pentoxide (CAS No. 1314-62-1) in male and female B6C3F1 mice (http://ntp-server.niehs.nih.gov/htdocs/LT-studies/tr507.html). The incidence of benign and malignant neoplasms was increased in the lungs of the experimental animals at doses of 1, 2, and 4 mg/m³. There was also some lesser evidence of increased lung tumor incidence in male and female rats at similar exposure levels. Exposures to vanadium pentoxide caused a spectrum of nonneoplastic lesions in the respiratory tracts of rats and mice, including epithelial hyperplasia, inflammation and fibrosis. The NTP report raises concerns for other vanadium chemicals and their potential health effects.

B. Chemicals Removed From the Priority Testing List

1. Thiophenol. Thiophenol (CAS No. 108-98-5) was designated in the ITC's 28thReport (Ref. 16) because there was a low confidence in the Reference Dose (RfD) and no Reference Concentration (RfC). The USEPA's RfC/RfD Workgroup requested that the ITC review health effects data for thiophenol and recommend health effects testing that would increase the confidence in the RfD and provide a RfC. Since thiophenol was designated, the ITC has learned that it is not currently produced in the United States, that the NTP has conducted developmental toxicity (Refs. 17 and 18) and reproductive effects (Ref. 19) studies, and that Japan is developing a SIDS dossier. Thiophenol is being removed from the Priority Testing List because it is no longer produced and the ITC anticipates the SIDS dossier will address the testing data needs recommended by the ITC.

2. Seven alkylphenols and alkylphenol ethoxylates. The ITC is continuing to review data on the alkylphenols and alkylphenol ethoxylates that were recommended in ITC Reports 37 (Ref. 20), 39 (Ref. 21), and 41 (Ref. 9). For these chemicals the ITC has reviewed the PAIR reports submitted by producers and voluntary information provided by the Alkylphenol & Ethoxylates Research Council (APERC). At this time the ITC is removing from the Priority Testing List 4 alkylphenols from the 37th Report (Ref. 20) 1 nonylphenol ethoxylate from the 39th Report (Ref. 21) and 2 alkylphenols from the 41st Report (Ref. 9) (Table 5 of this unit).

Table 5.—Alkylphenols and Alkylphenol Ethoxylates Being Removed From the Priority Testing List
ITC Report | CAS No. | Chemical name | Rationale for removal
37 | 80-46-6 | Phenol, 4-(1,1-dimethylpropyl)- | Sponsored in HPV Challenge Program
37 | 88-18-6 | Phenol, 2-(1,1-dimethylethyl)- | Sponsored in HPV Challenge Program
37 | 1806-26-4 | Phenol, 4-octyl- | No longer used by APERC Members
37 | 25154-52-3 | Phenol, nonyl- | Not commercially available
39 | 27986-36-3 | Ethanol, 2-(nonylphenoxy)- | ¹
41 | 1987-50-4 | Phenol, 4-heptyl- | ²
41 | 72624-02-3 | Phenol, heptyl derivs. | Sponsored in HPV Challenge Program
¹ Ethanol, 2-(nonylphenoxy)- (CAS No. 27986-36-3) is likely to be degraded in the environment to branched 4-nonylphenol (CAS No. 84852-15-3); data developed from testing branched 4-nonylphenol (CAS No. 84852-15-3) in response to the HPV Challenge Program may be used to predict toxicity of 2-(nonylphenoxy)ethanol.
² The ITC learned that there is only a single product being sold and purchased as heptylphenol (phenol, heptyl derivs., CAS No. 72624-02-3). CAS No. 1987-50-4 for Phenol, 4-heptyl- denotes a linear structure of the C7 chain and was previously used and reported on the IUR though it is not the most appropriate CAS number for the commercial heptylphenol product.

There are 2 alkylphenols from the 37th Report (Ref. 20) and 1 alkylphenol from the 41st Report (Ref. 9) remaining on the Priority Testing List (Table 6 of this unit).

Table 6.—Alkylphenols Remaining on the Priority Testing List
ITC Report | CAS No. | Chemical name
37 | 98-54-4 | Phenol, 4-(1,1-dimethylethyl)-
37 | 84852-15-3 | Phenol, 4-nonyl-, branched
41 | 140-66-9 | Phenol, 4-(1,1,3,3-tetramethylbutyl)-

For phenol, 4-(1,1-dimethylethyl)- (CAS No. 98-54-4), the ITC anticipates reviewing the SIDS dossier and the ongoing reproductive effects study. For phenol, 4-(1,1,3,3-tetramethylbutyl)- (CAS No. 140-66-9) and phenol, 4-nonyl-, branched (CAS No. 84852-15-3), the ITC anticipates receiving amphibian toxicity data, avian reproductive effects data, and fish reproductive effects data.

3. DEBITS 1 chemical. 3H-Pyrazol-3-one, 5-((2-chloro-5- nitrophenyl)amino)-2,4-dihydro-2-(2,4,6-trichlorophenyl)- is being removed from the Priority Testing List because of decreasing production volume trends from 1990 to the present. Phenol, 4,4'-[2,2,2-trifluoro-1-(trifluoromethyl)ethylidene]bis- is being removed from the Priority Testing List because the ITC has learned that the predicted BCF of approximately 500 is not sufficient to be considered by USEPA's PBT Program. Pentachlorothiophenol (CAS No. 133-49-3) is being removed from the Priority Testing List because of low exposure potential from current use.

4. Indium compounds. Twenty-eight indium compounds are being removed from the Priority Testing List because no production or importation data were submitted to USEPA in response to the July 26, 2001, PAIR rule (Ref. 8) (Table 7 of this unit).

Table 7.—Indium Compounds Being Removed From the Priority Testing List
CAS No. | Chemical name
923-34-2 | Indium, triethyl-
1303-11-3 | Indium arsenide (InAs)
1312-41-0 | Antimony, compd. with indium (1:1)
1312-45-4 | Indium telluride (In2Te3)
4194-69-8 | 1,2,3-Propanetricarboxylic acid, 2-hydroxy-, indium(3+) salt
7783-52-0 | Indium fluoride (InF3)
12018-95-0 | Copper indium selenide (CuInSe2)
12030-14-7 | Indium sulfide (InS)
12030-24-9 | Indium sulfide (In2S3)
12056-07-4 | Indium selenide (In2Se3)
12672-70-7 | Indium chloride
12672-71-8 | Indium oxide
13510-35-5 | Indium iodide (InI3)
13770-61-1 | Nitric acid, indium(3+) salt
13966-94-4 | Indium iodide (InI)
14166-78-0 | Indium fluoride (InF3), trihydrate
14280-53-6 | Indium bromide (InBr)
14405-45-9 | Indium, tris(2,4-pentanedionato-.kappa.O,.kappa.O')-, (OC-6-11)-
25617-98-5 | Indium nitride (InN)
55326-87-9 | Indium hydroxide
71243-84-0 | Indium tin oxide (In1.69Sn0.15O2.85)
13465-09-3 | Indium bromide (InBr3)
13465-10-6 | Indium chloride (InCl)
13709-93-8 | Boric acid (H3BO3), indium(3+) salt (1:1)
27765-48-6 | Borate(1-), tetrafluoro-, indium(3+) (3:1)
66027-94-9 | Indium, hydroxybis(trifluoroacetato-.kappa.O)-
67816-06-2 | Hexanoic acid, 2-ethyl-, indium(3+) salt
68310-35-0 | Neodecanoic acid, indium(3+) salt

With these actions, there are nine indium compounds remaining on the Priority Testing List (Table 8 of this unit). Indium phosphide remains on the Priority Testing List due to carcinogenicity concerns based on experimental animal studies (Ref. 22). The other eight indium compounds remain on the Priority Testing List because PAIR reports were submitted for these chemicals and the ITC needs health effects data (see section II.E. of this report).

Table 8.—Indium Compounds Remaining on the Priority Testing List
CAS No. | Chemical name
1312-43-2 | Indium oxide (In2O3)
7440-74-6 | Indium
10025-82-8 | Indium chloride (InCl3)
13464-82-9 | Sulfuric acid, indium(3+) salt (3:2)
20661-21-6 | Indium hydroxide (In(OH)3)
25114-58-3 | Acetic acid, indium(3+) salt
22398-80-7 | Indium phosphide (InP)
17906-67-7 | Indium tin oxide
66027-93-8 | Sulfamic acid, indium(3+) salt

V. References

1. USEPA. 1998. Revisions to Reporting Regulations Under TSCA Section 8(d) (63 FR 15765, April 1, 1998) (FRL-5750-4). Available online at: http://www.epa.gov/fedrgstr/.

2. ITC. 2001. Forty-Eighth Report of the ITC. Federal Register (66 FR 51276, October 5, 2001) (FRL-6786-7). Available online at: http://www.epa.gov/fedrgstr/.

3. ITC. 2001. Forty-Ninth Report of the ITC. Federal Register (67 FR 10298, March 6, 2002) (FRL-6820-8). Available online at: http://www.epa.gov/fedrgstr/.

4. ITC. 2001. Fiftieth Report of the ITC. Federal Register (67 FR 49530, July 30, 2002) (FRL-7183-7). Available online at: http://www.epa.gov/fedrgstr/.

5. ITC. 1998. Forty-Second Report of the ITC. Federal Register (63 FR 42554, August 7, 1998) (FRL-5797-8). Available online at: http://www.epa.gov/fedrgstr/.

6. ITC. 2001. Forty-Seven Report of the ITC. Federal Register (66 FR 17768 April 3, 2001) (FRL-6763-6). Available online at: http://www.epa.gov/fedrgstr/.

7. ITC. 2000. Forty-Sixth Report of the ITC. Federal Register (65 FR 75552 December 1, 2000) (FRL-6594-7). Available online at: http://www.epa.gov/fedrgstr/.

8. USEPA. 2001. Preliminary Assessment Information Reporting; Addition of Certain Chemicals (66 FR 38955, July 26, 2001) (FRL-6783-6). Available online at: http://www.epa.gov/fedrgstr/.

9. ITC. 1998. Forty-First Report of the ITC. Federal Register (63 FR 17658, April 9, 1998) (FRL-5773-5). Available online at: http://www.epa.gov/fedrgstr/.

10. ACC. 2002. Comments on 50th TSCA Interagency Testing Committee Report. Docket ID Number OPPT-2002-0026 (67 FR 45929, July 30, 2002). September 13, 2002 letter from the American Chemistry Council, Arlington, VA.

11. ITC. 2000. Forty-Fifth Report of the ITC. Federal Register (65 FR 75544, December 1, 2000) (FRL-6399-5). Available online at: http://www.epa.gov/fedrgstr/.

12. ITC. 1989. Twenty-Fifth Report of the ITC, Receipt of Report and Request for Comments Regarding Priority Testing List of Chemicals. Federal Register (54 FR 51114, December 12, 1989). Available online at: http://www.epa.gov/fedrgstr/EPA-TOX/pre1994/hisindex.htm#Toxic Substances Control Act (TSCA) Interagency Testing Committee (ITC) Reports.

13. WHO. 2001. Vanadium Pentoxide and Other Inorganic Vanadium Compounds. Concise International Chemical Assessment Document 29. World Health Organization, Geneva, Switzerland. Available online at: http://www.inchem.org/documents/cicads/cicads/cicad29.htm.

14. Reese, Robert G., Jr. 2001. Vanadium. The Mineral Yearbook—Minerals and Metals. Available online at: (http://minerals.usgs.gov/minerals/pubs/commodity/vanadium/700401.pdf).

15. ATSDR. 1992. Toxicological Profile of Vanadium. Available online at: http://www.atsdr.cdc.gov/toxprofiles/tp58.html.

16. ITC. 1991. Twenty-Eighth Report of the ITC, Receipt of Report and Request for Comments Regarding Priority List of Chemicals. Federal Register (56 FR 41212, August 19, 1991). Available online at: http://www.epa.gov/fedrgstr/EPA-TOX/pre1994/hisindex.htm#Toxic Substances Control Act (TSCA) Interagency Testing Committee (ITC) Reports.

17. NTP. 1994. Developmental Toxicity of Thiophenol (CAS No. 108-98-5) in Sprague-Dawley (CD®) Rats. NTIS# PB94-155009. Available online at: http://ntp-server.niehs.nih.gov/htdocs/TT-studies/TER92133.html.

18. NTP. 1994. Developmental Toxicity of Thiophenol (CAS No. 108-98-5) in New Zealand White Rabbits. NTIS# PB94-201183 . Available online at: http://ntp-server.niehs.nih.gov/htdocs/TT-studies/TER92134.html.

19. NTP. 1996. Reproductive Toxicity of Thiophenol II (CAS No: 108-98-5) Administered by Gavage to Sprague-Dawley Rats. National Toxicology Program. NTIS# PB96-211735. Available online at: http://ntp-server.niehs.nih.gov/htdocs/RT-studies/RACB94001.html.

20. ITC. 1996. Thirty-Seventh Report of the ITC. Federal Register (61 FR 4188, February 2, 1996) (FRL-4991-6). Available online at: http://www.epa.gov/fedrgstr/.

21. ITC. 1997. Thirty-Ninth Report of the ITC. Federal Register (62 FR 8578, February 25, 1997) (FRL-5580-9). Available online at: http://www.epa.gov/fedrgstr/.

22. NTP. 2001. Toxicology and carcinogenesis studies of indium phosphide (CAS No. 22398-80-7) in F344/Nrats and B6C3F1 mice (inhalation studies). National Toxicology Program Technical Report. 2001 July; 499:1-4433 (http://ehp.niehs.nih.gov/ntp/members/tr499/tr499-full.pdf).

VI. TSCA Interagency Testing Committee

Statutory Organizations and Their Representatives

Council on Environmental Quality

Vacant

Department of Commerce

National Institute of Standards and Technology

Robert Huie, Member

Barbara C. Levin, Alternate

National Oceanographic and Atmospheric Administration

Thomas P. O'Connor, Member

Teri Rowles, Alternate

Environmental Protection Agency

Gerry Brown, Member

Paul Campanella, Alternate

National Cancer Institute

Alan Poland, Member

David Longfellow, Alternate

National Institute of Environmental Health Sciences

Scott Masten, Member, Chair

William Eastin, Alternate

National Institute for Occupational Safety and Health

Mark Toraason, Member, Vice Chair

Dennis W. Lynch, Alternate

National Science Foundation

Marge Cavanaugh, Member

Occupational Safety and Health Administration

Val H. Schaeffer, Member

Lyn Penniman, Alternate

Liaison Organizations and Their Representatives

Agency for Toxic Substances and Disease Registry

William Cibulas, Member

Daphne Moffett, Alternate

Consumer Product Safety Commission

Treye Thomas, Member

Jacqueline Ferrante, Alternate

Department of Agriculture

Clifford P. Rice, Member

Laurau L. McConnell, Alternate

Department of Defense

Barbara Larcom, Member

Kenneth Still, Alternate

José Centeno, Alternate

Department of the Interior

Barnett A. Rattner, Member

Food and Drug Administration

David Hatten, Member

National Library of Medicine

Vera W. Hudson, Member

National Toxicology Program

NIEHS, FDA, and NIOSH Members

Technical Support Contractor

Syracuse Research Corporation

ITC Staff

John D. Walker, Director

Norma S. L. Williams, Executive Assistant

TSCA Interagency Testing Committee, Office of Pollution Prevention and Toxics (7401M), Environmental Protection Agency, 1200 Pennsylvania Ave., NW., Washington, DC 20460-0001; telephone number: (202) 564-7527; fax number: (202) 564-7528; e-mail address: williams.norma@epa.gov; url: http://www.epa.gov/opptintr/itc.

[FR Doc. 03-4522 Filed 2-25-03; 8:45 am]

BILLING CODE 6560-50-S